DEPARTMENT OF DEFENSE

Department of the Army; Corps of Engineers

Notice of Availability for the Draft Environmental Impact Statement/ Environmental Impact Report for the San Pedro Waterfront Project, Los Angeles County, CA

AGENCY: Department of the Army—U.S. Army Corps of Engineers, DoD.

ACTION: Notice of availability.

SUMMARY: The U.S. Army Corps of Engineers, Los Angeles District (Regulatory Division), in coordination with the Port of Los Angeles, has completed a Draft Environmental Impact Statement/Environmental Impact Report (EIS/EIR) for the San Pedro Waterfront Project, encompassing approximately 400 acres of land and water primarily along the west side of the Main Channel westward to Harbor Boulevard from the Vincent Thomas Bridge southward to Inner Cabrillo Beach in the Port of Los Angeles. The Port of Los Angeles requires authorization pursuant to section 404 of the Clean Water Act, section 10 of the Rivers and Harbors Act, and section 103 of the Marine Protection, Research, and Sanctuaries Act, to implement various regulated activities in and over waters of the U.S. associated with redeveloping San Pedro Waterfront, which would include the following elements:

Promenade, Harbors, and Open Space

Waterfront Promenade—Construct a continuous promenade approximately 30 feet wide along the west side of the Main Channel through the project area.

Three New Harbors (North Harbor, Downtown Harbor, and 7th Street Harbor)—Develop three new harbors along the west side of the Main Channel to provide berthing for visiting tall ships, tugboats, and other vessels used for recreational, commercial, and other port-related purposes. This would require excavation and dredging to create the approximately 7 acres of new surface water. Cleaner material would to be disposed of at a designated ocean site (LA-2/LA-3), and unsuitable material to be disposed of at an approved upland site. In-harbor sites would also be considered if any become available.

7th Street Pier—The constructed 7th Street Pier would be the public dock for short-term berthing of visiting vessels and would be located within the 7th Street Harbor, adjacent to the Los Angeles Maritime Museum.

Town Square—The Town Square would comprise approximately 0.79 acre in front of the historic San Pedro Municipal Ferry Building (existing Los Angeles Maritime Museum) at the foot of 6th Street and would incorporate a portion of the downtown promenade.

Downtown Civic Fountain—The Downtown Civic Fountain would be adjacent to the Town Square. The water feature would be designed to complement the civic setting of the adjacent San Pedro City Hall Building and the Town Square, and simulate the extension of the 7th Street Harbor to the San Pedro City Hall Building.

John S. Gibson Jr. Park—John S. Gibson Jr. Park is an existing 1.61-acre park located south of the 5th Street green. The intent is to maintain the existing memorials at the park and enhance their surroundings to highlight their historical and cultural significance with improved hardscape, landscaping, lighting, and interpretive signage elements.

Fishermen's Park—The proposed Fishermen's Park would encompass approximately 3 acres within Ports O'Call.

Outer Harbor Park—The proposed Outer Harbor Park would encompass approximately 6 acres at the Outer Harbor and would be designed as an integral feature and complementary to the secure operations of the proposed Outer Harbor Cruise Terminals.

San Pedro Park—The proposed San Pedro Park would encompass 18 acres located north of 22nd Street, south of Crescent Avenue, and west of Sampson Way.

Warehouses Nos. 9 and 10 and associated backland area—Adapt the area for low-intensity community-serving commercial or educational reuse that would be incorporated as an integral element of San Pedro Park.

New Development, Redevelopment, Cultural Attractions, and Modifications to Existing Tenants, Including Development of the New Cruise Terminals

Cruise Terminals—Upgrade Berths 45-47 for use as a cruise ship berth including terminal construction, and construct a new cruise ship berth and terminal at Berths 49-50 in the Outer Harbor.

Cruise Terminal Parking—The proposed upgrades to Berths 45-47 and new cruise ship terminal, the construction of a new cruise berth and terminal facility at Berths 49-50 in the Outer Harbor, and projected increases in ship calls and passengers at Berths 91-93 would require additional parking facilities. The parking for the combined cruise ship facilities would be located in the Inner Harbor and Outer Harbor.

Ports O'Call Redevelopment—Redevelop and construct new commercial development within Ports O'Call Village. The redevelopment and additional development at Ports O'Call would require an increase in parking spaces. Parking would be provided at a number of locations within the Port and near Ports O'Call.

Tug Operations—Renew leases and construct two new 10,000-square-foot buildings around the North Harbor for both Crowley and Millennium tug boats. Dispatching of tugs varies from day to day, and the impacts associated with tugboat operations are or will be accounted for in the respective projects that utilize tugboats.

Los Angeles Maritime Institute (LAMI)—Issue a new lease and reuse the Crowley Building in the Downtown Harbor area for LAMI.

Berth 240 Fueling Station—A new fueling station would be developed at Berth 240 on Terminal Island (i.e., along the east side of the Main Channel).

Catalina Express Terminal and SS Lane Victory—Permanently relocate the Catalina Express Terminal berthing facilities from Berths 95-96 to the existing location of the S.S. Lane Victory at Berth 94. S.S. Lane Victory would be relocated to the North Harbor water cut.

Transportation Improvements

Sampson Way—This road would be expanded to two lanes in each direction and curve near the Municipal Fish Market to meet with 22nd Street in its westward alignment east of Miner Street. The proposed construction would also include an enhanced four-way intersection at Sampson Way and 7th Street to provide improved access to and along the waterfront.

Harbor Boulevard—This road would remain in place at its current capacity with two lanes in each direction. Landscaping and hardscape improvements are proposed along the east side and west side of Harbor Boulevard south of 7th Street, as well as in the median of Harbor Boulevard starting at the Swinford Street intersection, and would extend south to 22nd Street.

The Waterfront Red Car Line—This line would be extended from its existing terminus near the intersection of Harbor Boulevard and Miner Street and 22nd Street to City Dock No. 1 (adjacent to Warehouse No. 1), to the Outer Harbor along Miner Street, and to Inner Cabrillo Beach along Shoshonean Road.

FOR FURTHER INFORMATION CONTACT: Questions or comments concerning the Draft EIS/EIR should be directed to Dr. Spencer D. MacNeil, U.S. Army Corps of Engineers, Los Angeles District, Regulatory Division, Ventura Field Office, 2151 Alessandro Drive, Suite 110, Ventura, CA 93001, (805) 585-2152.

SUPPLEMENTARY INFORMATION: The Port of Los Angeles and U.S. Army Corps of Engineers will jointly hold a public hearing to receive public comments and to assess pubic concerns regarding the Draft EIS/EIR and project on October 27, 2008 starting at 6 p.m. in the Crowne Plaza Hotel in San Pedro (601 S. Palos Verdes Street). Written comments will be accepted until the close of public review on December 8, 2008.

David J. Castanon,
Chief, Regulatory Division, Los Angeles District.

[FR Doc. E8-22641 Filed 9-25-08; 8:45 am]

BILLING CODE 3710-KF-P